ENVIRONMENTAL PROTECTION AGENCY

[EPA-HQ-OECA-2013-0328; FRL-9985-40-OEI]

Information Collection Request Submitted to OMB for Review and Approval; Comment Request; NESHAP for Vinyl Chloride (Renewal)

AGENCY: Environmental Protection Agency (EPA).

ACTION: Notice.

SUMMARY: The Environmental Protection Agency (EPA) has submitted an information collection request (ICR), NESHAP for Vinyl Chloride (EPA ICR No. 0186.14, OMB Control No. 2060-0071), to the Office of Management and Budget (OMB) for review and approval in accordance with the Paperwork Reduction Act. This is a proposed extension of the ICR, which is currently approved through November 30, 2018. Public comments were previously requested, via the Federal Register, on June 29, 2017 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before November 30, 2018.

ADDRESSES: Submit your comments, referencing Docket ID Number EPA-HQ-OECA-2013-0328, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Vinyl Chloride (40 CFR part 61, subpart F) apply to new and existing plants that produce: Ethylene dichloride (EDC) by reaction of oxygen and hydrogen chloride with ethylene; vinyl chloride (VC) by any process; and one or more polymers containing any fraction of polymerized VC. This Subpart does not apply to equipment used in research and development if the reactor used to polymerize the VC has a capacity of no more than 0.19 m³. New facilities include those that commenced construction or reconstruction after the date of proposal. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 61, subpart F.

Form Numbers: None.

Respondents/affected entities: Ethylene dichloride, polyvinyl chloride and vinyl chloride plants.

Respondent's obligation to respond: Mandatory (40 CFR part 61, subpart F).

Estimated number of respondents: 16 (total).

Frequency of response: Initially, quarterly and occasionally.

Total estimated burden: 6,540 hours (per year). Burden is defined at 5 CFR 1320.3(b).

Total estimated cost: $1,410,000 (per year), which includes $720,000 in annualized capital/startup and/or operation & maintenance costs.

Changes in the Estimates: There is an adjustment decrease in the estimated respondent burden and costs as currently identified in the OMB Inventory of Approved Burdens. This is not due to any program changes. The change has occurred due to a decrease in the number of respondents complying with this rule. Based on the Agency's consultation with the Vinyl Institute, the number of sources has decreased from an average of 18 sources in the previous ICR to an average of 16 sources for the current ICR period.

Courtney Kerwin,
Director, Regulatory Support Division.

[FR Doc. 2018-23748 Filed 10-30-18; 8:45 am]

BILLING CODE 6560-50-P